Proclamation 9792 of September 28, 2018

National Cybersecurity Awareness Month, 2018

By the President of the United States of America

A Proclamation

During National Cybersecurity Awareness Month, we acknowledge the danger that cyber threats pose to our economy and public infrastructure, and raise awareness about steps we can take to mitigate and prevent future attacks. As these threats have continued to increase year after year, my Administration remains committed to bolstering our Nation's cyber defenses and strengthening our national security.

Under my Administration, our Nation's cybersecurity is a Government-wide effort. Collaboration among all United States Government departments and agencies, including the Departments of State, Defense, Justice, Commerce, and Homeland Security, have improved Federal network cybersecurity, enhanced coordination with the private sector to protect critical infrastructure, strengthened our ability to detect and deter cyber threats, and expanded efforts to build the world's best cybersecurity workforce. To advance these efforts, on September 20, 2018, I released the National Cyber Strategy, the first fully articulated cyber strategy for the United States in 15 years. This strategy makes clear that the Federal Government will use all means available to keep our country safe from cyber threats and to protect the American people in the digital domain.

While we are making great strides to help protect American businesses and individuals, the Government cannot secure cyberspace alone. The internet touches many aspects of our daily lives. Our ability to prevent and mitigate cyber threats will improve when all citizens adopt better cybersecurity practices to protect their systems and data. Each of us can contribute by requesting more security from the products and services we use; using multi-factor authentication on our digital accounts and devices; leveraging private, protected, and secure networks; limiting how much personal information and location data we share; and taking other actions to secure the applications we use every day. I also encourage every American to learn more about how to protect themselves and their businesses through the Department of Homeland Security's STOP.THINK.CONNECT. campaign and the Department of Commerce's NIST Cybersecurity Framework.

This month especially, I encourage all Americans to promote and improve online security. I also call on our industry and Government partners to work together to share information, build greater trust, and lead the national effort to protect and enhance the resilience of the Nation's cyber infrastructure. I encourage and applaud industry efforts to produce products and services with full-lifecycle cybersecurity. Through continued cooperation between the public and private sectors, and by practicing personal risk-management, we can strengthen our Nation's cyberinfrastructure for ourselves and for future generations of Americans.

NOW, THEREFORE, I, DONALD J. TRUMP, President of the United States of America, by virtue of the authority vested in me by the Constitution and the laws of the United States, do hereby proclaim October 2018 as National Cybersecurity Awareness Month. I call upon the people, companies, and institutions of the United States to recognize the importance of cybersecurity and to observe this month through events, training, and education to further our country's national security and resilience.

IN WITNESS WHEREOF, I have hereunto set my hand this twenty-eighth day of September, in the year of our Lord two thousand eighteen, and of the Independence of the United States of America the two hundred and forty-third.

[FR Doc. 2018-21812

Filed 10-3-18; 11:15 am]

Billing code 3295-F9-P